ENVIRONMENTAL PROTECTION AGENCY

[FRL-6841-5]

Agency Information Collection Activities: Submission for OMB Review; Comment Request; Confidentiality Rules

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Confidentiality Rules, EPA ICR No. 1665.03, OMB Control No. 2020-0003, expiration date August 31, 2000. The ICR describes the nature of the information collection and its expected burden and cost; where appropriate, it includes the actual data collection instrument.

DATES: Comments must be submitted on or before August 28, 2000.

FOR FURTHER INFORMATION CONTACT: For a copy of the ICR, contact Sandy Farmer at EPA by phone at (202) 260-2740 or by email at farmer.sandy@epamail.epa.gov, or download off the Internet at http://www.epa.gov/icr and refer to EPA ICR No. 1665.03. For technical questions about the ICR, contact Rebecca Moser in EPA's Office of Information Collection by phone at (202) 260-6780, by fax at (202) 260-8550, or by email at Moser.Rebecca@epa.gov.

SUPPLEMENTARY INFORMATION: Title: Confidentiality Rules (OMB Control No. 2020-0003; EPA ICR No. 1665.03), expiring August 31, 2000. This is a request for extension of a currently approved collection.

Abstract: EPA administers a number of environmental protection statutes which require it to collect data from thousands of facilities. Businesses often claim the data they submit as confidential business information (CBI). EPA developed the regulations at 40 CFR part 2, subpart B to protect CBI, as well as the rights of the public under the Freedom of Information Act (FOIA). When EPA must determine whether information is entitled to confidential treatment, it provides the affected business with an opportunity to submit comments (a substantiation). EPA then considers the business's comments in determining whether the previously submitted information should be protected as CBI. This ICR relates to the collection of information that will assist EPA in making confidentiality determinations.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on April 12, 2000 (65 FR 19750); comments were received from one organization.

Burden Statement: The annual public reporting and recordkeeping burden for this collection of information is estimated to average 4.8 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: 1330.

Estimated Number of Responses: 1101.

Frequency of Response: on occasion.

Estimated Total Annual Hour Burden: 6432 hours.

Estimated Total Annualized Capital and Operating & Maintenance Cost Burden: $0.

Send comments on the Agency's need for this information, the accuracy of the provided burden estimates, and any suggested methods for minimizing respondent burden, including through the use of automated collection techniques to the following addresses. Please refer to EPA ICR No. 1665.03 and OMB Control No. 2020-0003 in any correspondence.

Ms. Sandy Farmer, U.S. Environmental Protection Agency, Office of Environmental Information, Collection Strategies Division (2822), 1200 Pennsylvania Ave, NW., Washington, DC 20460; and

Office of Information and Regulatory Affairs, Office of Management and Budget, Attention: Desk Officer for EPA, 725 17th Street, NW, Washington, DC 20503.

Dated: July 19, 2000.
Joseph Retzer,
Director, Collection Services Division.

[FR Doc. 00-19121 Filed 7-27-00; 8:45 am]

BILLING CODE 6560-50-P